DEPARTMENT OF DEFENSE

DEPARTMENT OF TRANSPORTATION

Coast Guard

DEPARTMENT OF VETERANS AFFAIRS

38 CFR Part 21

RIN 2900-AK45

End of the Service Members Occupational Conversion and Training Program

AGENCIES: Department of Defense, Department of Transportation (Coast Guard), and Department of Veterans Affairs.

ACTION: Final rule.

SUMMARY: This document amends the educational assistance and educational benefit regulations of the Department of Veterans Affairs (VA). The amendments consist of removal of regulations that are no longer needed to administer the Service Members Occupational Conversion and Training Program. Veterans are no longer training under that program.

DATES: Effective date: July 26, 2001.

FOR FURTHER INFORMATION CONTACT: William G. Susling, Jr., Assistant Director for Policy and Program Development, Education Service, Veterans Benefits Administration, Department of Veterans Affairs, 202-273-7187.

SUPPLEMENTARY INFORMATION: The Service Members Occupational Conversion and Training Act (SMOCTA) (Subtitle G, Pub. L. 102-484) established a job-training program for some veterans. The program helped these veterans enter the civilian workforce through training in a stable and permanent position that involved significant training. VA made monthly payments to employers who employed and trained eligible veterans in these jobs, and made a final lump sum payment when the trainee had completed the training program and been employed for four months. The payments aided employers in defraying the necessary costs of training.

Based on statutory authority and regulations, employers may no longer apply for the monthly payments and may no longer apply for the lump sum payment. No one is training under SMOCTA, and VA is making no payments under that Act. The statutory date for beginning training has passed, and the last year in which funds were appropriated for this program was Fiscal Year 1995. There is no need for regulations to implement SMOCTA, nor is there any need for other regulations that refer to SMOCTA.

Administrative Procedure Act

The changes made by this final rule are nonsubstantive changes. This final rule merely removes unnecessary provisions that relate only to a training and payment program for which there no longer is statutory authority for training or payment. Accordingly, there is a basis for dispensing with prior notice and comment and a delayed effective date under the provisions of 5 U.S.C. 552 and 553.

Paperwork Reduction Act

This document contains no provisions constituting a collection of information under the Paperwork Reduction Act (44 U.S.C. 3501-3520).

Regulatory Flexibility Act

The Secretary of Defense, the Commandant of the Coast Guard, and the Secretary of Veterans Affairs hereby certify that this final rule will not have a significant economic impact on a substantial number of small entities as they are defined in the Regulatory Flexibility Act, 5 U.S.C. 601-612. This final rule will not cause employers to make changes in their activities because no one is training under SMOCTA. Pursuant to 5 U.S.C. 605(b), this final rule, therefore, is exempt from the initial and final regulatory flexibility analyses requirements of §§ 603 and 604.

Unfunded Mandates

The Unfunded Mandates Reform Act requires, at 2 U.S.C. 1532, that agencies prepare an assessment of anticipated costs and benefits before developing any rule that may result in an expenditure by State, local, or tribal governments, in the aggregate, or by the private sector, of $100 million or more in any given year. This rule would have no consequential effect on State, local, or tribal governments.

Catalog of Federal Domestic Assistance

There is no Catalog of Federal Domestic Assistance number for the program that this final rule affects.

List of Subjects in 38 CFR Part 21

Administrative practice and procedure, Armed forces, Civil rights, Claims, Colleges and universities, Conflict of interests, Defense Department, Education, Employment, Grant programs-education, Grant programs-veterans, Loan programs-education, Loan programs-veterans, Manpower training programs, Reporting and recordkeeping requirements, Schools, Travel and transportation expenses, Veterans, Vocational education, Vocational rehabilitation.

Approved: April 9, 2001.
Anthony J. Principi,
Secretary of Veterans Affairs.

Approved: July 6, 2001.
P.A. Tracey,
Vice Admiral, USN, Deputy Assistant Secretary (Military Personnel Policy), Department of Defense.

Approved: July 12, 2001.
F.L. Ames,
Rear Admiral, U.S. Coast Guard, Assistant Commandant for Human Resources.

For the reasons set forth above, 38 CFR part 21 is amended as set forth below.

PART 21—VOCATIONAL REHABILITATION AND EDUCATION

Subpart D—Administration of Educational Assistance Programs

1. The authority citation for part 21, subpart D continues to read as follows:

Authority: 10 U.S.C. 2141 note, ch. 1606; 38 U.S.C. 501(a), chs. 30, 32, 34, 35, 36, unless otherwise noted.

§ 21.4131 [Amended]

2. In § 21.4131, paragraph (i) is removed and reserved.

§ 21.4135 [Amended]

3. In § 21.4135, paragraph (aa) is removed and reserved.

Subpart F-3 [Removed and Reserved]

Subpart F-3—Service Members Occupational Conversion and Training Program

4. Part 21, subpart F-3 is removed and reserved.

Subpart K—All Volunteer Force Educational Assistance Program (Montgomery GI Bill—Active Duty)

5. The authority citation for part 21, subpart K continues to read as follows:

Authority: 38 U.S.C. 501(a), chs. 30, 36, unless otherwise noted.

§ 21.7131 [Amended]

6. In § 21.7135, paragraph (j) is removed and reserved.

§ 21.7131 [Amended]

7. In § 21.7135, paragraph (aa) is removed and reserved.

Subpart L—Educational Assistance for Members of the Selected Reserve

8. The authority citation for part 21, subpart L continues to read as follows:

Authority: 10 U.S.C. ch. 1606; 38 U.S.C. 501(a), 512, ch. 36, unless otherwise noted.

§ 21.7631 [Amended]

9. In § 21.7631, paragraph (f) is removed and reserved.

§ 21.7635 [Amended]

10. In § 21.7635, paragraph (w) is removed and reserved.

[FR Doc. 01-18609 Filed 7-25-01; 8:45 am]

BILLING CODE 8320-01-P